DEPARTMENT OF LABOR

Employment and Training Administration

Investigations Regarding Certifications of Eligibility to Apply for Worker Adjustment Assistance

Petitions have been filed with the Secretary of Labor under section 221(a) of the Trade Act of 1974 (“the Act”) and are identified in the appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 19, 2002.

Interested persons are invited to submit written comments regarding the subject matter of the investigations to the Director, Division of Trade Adjustment Assistance, at the address shown below, not later than September 19, 2002.

The petitions filed in this case are available for inspection at the Office of the Director, Division of Trade Adjustment Assistance, Employment and Training Administration, U.S. Department of Labor, Room C-5311, 200 Constitution Avenue, NW., Washington, DC 20210.

Signed at Washington, DC, this 12th day of August, 2002.
Edward A. Tomchick,
Director, Division of Trade Adjustment Assistance.

Appendix
[Petitions Instituted On 08/12/2002]
TA-W | Subject firm (petitioners) | Location | Date of petition | Products(s)
41,934 | Mallinckrodt Respiratory (Co.) | Carlsbad, CA | 07/30/2002 | Medical Equipment.
41,935 | Flextronics Enclosure (Co.) | Elk Grove Villa, IL | 07/22/2002 | Cases for Computer Systems.
41,936 | Fishking Processors, Inc. (Wkrs) | Los Angeles, CA | 07/23/2002 | Sea Food.
41,937 | Circuit Center, Inc. (Wkrs) | Kettering, OH | 08/01/2002 | Printed Circuits and Wiring.
41,938 | Valeo (Co.) | Ft. Worth, TX | 07/30/2002 | Switches.
41,939 | LaCrosse Rainfair Safety (Wkrs) | Racine, WI | 0726//2002 | Rain Gear and Footwear.
41,940 | Precision Threading (Co.) | Cheboygan, MI | 07/26/2002 | Thread Milling Cutters, Rolling Dies.
41,941 | Samuel Whittar (Co.) | Detroit, MI | 07/25/2002 | Hot/Cold Rolled Steel Strips.
41,942 | Encompass Group (Co.) | Eastman, GA | 07/30/2002 | Healthcare Apparel.
41,943 | ADC Telecommunications (Wkrs) | Eden Prairie, MN | 07/22/2002 | Optical Connectivity Products.
41,944 | John Deer Vehicle Group (Co.) | Toano, VA | 07/26/2002 | Utility Vehicles.
41,945 | Exxon Mobil (Wkrs) | Gibsonia, PA | 07/25/2002 | Lubricants.
41,946 | Tyco Electronics (Wkrs) | Middletown, PA | 07/22/2002 | Cable Assemblies.
41,947 | Pella Plastics (Co.) | So. Pittsburgh, TN | 07/24/2002 | Plastic Injection Molded.
41,948 | Buck Forkardt (Wkrs) | Portage, MI | 07/24/2002 | Scrolls and Pinions.
41,949 | Don'L (Co.) | Toccoa, GA | 07/22/2002 | Athletic Apparel.
41,950 | International Data (Wkrs) | El Paso, TX | 07/17/2002 | Data Entry.
41,951 | Lion Apparel (Co.) | Williamsburg, KY | 07/31/2002 | Security Uniforms.
41,952 | FCI USA (Wkrs) | York, PA | 06/25/2002 | Connectors.
41,953 | Astec America (Co.) | Carlsbard, CA | 07/22/2002 | Power Conversion Supplies.
41,954 | Leather Center (IUE) | Carrollton, TX | 06/10/2002 | Leather Furniture.
41,955 | Bayer (PACE) | West Haven, CA | 07/28/2002 | Pharmceutical Products.
41,956 | Stryker Howmedica | Rutherford, NJ | 07/01/2002 | Orthopedic Implants.
41,957 | Mahoning Mills (Co.) | Kutztown, PA | 07/22/2002 | T-Shirts, Girls and Women Underwear.
41,958 | Scranton Lace (Wkrs) | Scranton, PA | 07/19/2002 | Lace Curtains/Table Cloths.
41,959 | Amory Garment Company (Wkrs) | Amory, MS | 07/18/2002 | Men's Casual Pants and Shorts.
41,960 | Hart Ford Ball (UAW) | Rocky Hill, CT | 07/24/2002 | Finished Balls.
41,961 | Gilman Engineering (IAM) | Janesville, WI | 07/20/2002 | Automated Machinery.

[FR Doc. 02-22831 Filed 9-6-02; 8:45 am]

BILLING CODE 4510-30-M